FEDERAL COMMUNICATIONS COMMISSION

47 CFR Part 73

[DA 05-2497; MB Docket No. 02-295; RM-10580; RM-11149]

Radio Broadcasting Services; Gonzales, LA, Hattiesburg, MS, Houma, LA, and Westwego, LA

AGENCY: Federal Communications Commission.

ACTION: Proposed rule; dismissal.

SUMMARY: In response to a Notice of Proposed Rule Making (“Notice”), 67 FR 64080 (October 17, 2002), this Report and Order dismisses a rulemaking proceeding requesting that Channel 279C, Station WUSW(FM), Hattiesburg, Mississippi, be downgraded to Channel 279C0, and reallotted to Westwego, Louisiana; and that Channel 281C, Station KHEV(FM), Houma, Louisiana, be downgraded to Channel 281C0 and reallotted to Gonzales, Louisiana. Clear Channel Broadcasting Licenses, Inc., the proponent of this rulemaking, requested Commission approval for the withdrawal of its Petition for Rule Making and its expressions of interest in implementing its rulemaking proposals. Clear Channel filed a declaration that neither it nor any of its principals has received or will receive any consideration in connection with the withdrawal of its expression of interest in this proceeding.

FOR FURTHER INFORMATION CONTACT: R. Barthen Gorman, Media Bureau, (202) 418-2180.

SUPPLEMENTARY INFORMATION: This is a synopsis of the Commission's Report and Order, MB Docket No. 02-295, adopted September 23, 2005, and released September 26, 2005. The full text of this Commission decision is available for inspection and copying during normal business hours in the FCC's Reference Information Center at Portals II, 445 12th Street, SW., Room CY-A257, Washington, DC, 20554. The document may also be purchased from the Commission's duplicating contractor, Best Copy and Printing, Inc., Portals II, 445 12th Street, SW., Room CY-B402, Washington, DC 20554, telephone 1-800-378-3160 or http://www.BCPIWEB.com. This document is not subject to the Congressional Review Act. (The Commission is, therefore, not required to submit a copy of this Report and Order to GAO pursuant to the Congressional Review Act, see 5 U.S.C. 801(a)(1)(A), because the proposed rule is dismissed.)

Federal Communications Commission.
John A. Karousos,
Assistant Chief, Audio Division, Media Bureau.

[FR Doc. 05-20210 Filed 10-11-05; 8:45 am]

BILLING CODE 6712-01-P